NUCLEAR REGULATORY COMMISSION

10 CFR Part 50

[NRC-2017-0151]

RIN 3150-AK07

Reactor Vessel Material Surveillance Program

AGENCY: Nuclear Regulatory Commission.

ACTION: Direct final rule; confirmation of effective date.

SUMMARY: The U.S. Nuclear Regulatory Commission (NRC) is confirming the effective date of February 1, 2021, for the direct final rule that was published in the Federal Register on October 2, 2020. The direct final rule amends the NRC's reactor vessel material surveillance program requirements for commercial light-water reactors. The direct final rule revises the requirements associated with the testing of specimens contained within surveillance capsules and reporting the surveillance test results. The direct final rule also clarifies the requirements for the design of surveillance programs and the capsule withdrawal schedules for surveillance capsules in reactor vessels purchased after 1982.

DATES: The effective date of February 1, 2021, for the direct final rule published October 2, 2020 (85 FR 62199), is confirmed.

ADDRESSES: Please refer to Docket ID NRC-2017-0151 when contacting the NRC about the availability of information for this action. You may obtain publicly-available information related to this action by any of the following methods:

• Federal Rulemaking Website: Go to https://www.regulations.gov and search for Docket ID NRC-2017-0151. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The Public Document Room (PDR), where you may examine and order copies of public documents, is currently closed. You may submit your request to the PDR via email at pdr.resource@nrc.gov or call 1-800-397-4209 between 8:00 a.m. and 4:00 p.m. (EST), Monday through Friday, except Federal holidays.

FOR FURTHER INFORMATION CONTACT: Stewart Schneider, Office of Nuclear Material Safety and Safeguards, telephone: 301-415-4123, 3453, email: Stewart.Schneider@nrc.gov, or On Yee, Office of Nuclear Reactor Regulation, telephone: 301-415-1905, email: On.Yee@nrc.gov. Both are staff of the U.S. Nuclear Regulatory Commission, Washington, DC 20555-0001.

SUPPLEMENTARY INFORMATION: On October 2, 2020 (85 FR 62199), the NRC published a direct final rule amending its regulations in appendix H, “Reactor Vessel Material Surveillance Program Requirements” (appendix H), to part 50 of title 10 of the Code of Federal Regulations (10 CFR), “Domestic Licensing of Production and Utilization Facilities,” to revise the NRC's reactor vessel material surveillance program requirements for commercial light-water reactors. The direct final rule revises the requirements in appendix H to 10 CFR part 50 associated with the testing of specimens contained within surveillance capsules and reporting the surveillance test results. The direct final rule also clarifies the requirements for the design of surveillance programs and the capsule withdrawal schedules for surveillance capsules in reactor vessels purchased after 1982.

In the direct final rule published on October 2, 2020, the NRC stated that if no significant adverse comments were received, the direct final rule would become effective on February 1, 2021. The NRC received and docketed two comment submissions on the companion proposed rule (85 FR 62234; October 2, 2020). Electronic copies of the comments can be obtained from the Federal Rulemaking website at https://www.regulations.gov under Docket ID NRC-2017-0151 and are also available in ADAMS under Accession Nos. ML20301A624 and ML20308A229, respectively.

The NRC determined that the two comment submissions addressed issues that were outside the scope of the direct final rule or were not significant nor adverse. One comment submission questioned (1) the use of Charpy V-notch testing procedures, (2) the subsequent license renewal and extended power uprate for Turkey Point Nuclear Generating Units 3 and 4, (3) the use of Integrated Surveillance Programs, and (4) the timing associated with specimen testing and capsule report submittal. With respect to the items 1-3, these issues are outside the scope of this direct final rule. While item 4 is within the scope of the direct final rule, the NRC determined that the comment was not significant nor adverse. The other comment submission is outside the scope of this direct final rule. Therefore the direct final rule will become effective as scheduled.

Paperwork Reduction Act Statement

The direct final rule contains a new or amended collection of information subject to the Paperwork Reduction Act of 1995 (44 U.S.C. 3501 et seq.). The collections of information were approved by the Office of Management and Budget (OMB), approval number 3150-0011.

Public Protection Notification

The NRC may not conduct or sponsor, and a person is not required to respond to a collection of information unless the document requesting or requiring the collection displays a currently valid OMB control number.

Dated: December 21, 2020.
For the Nuclear Regulatory Commission.
Pamela J. Shepherd-Vladimir,
Acting Chief, Regulatory Analysis and Rulemaking Support Branch, Division of Rulemaking, Environmental, and Financial Support, Office of Nuclear Material Safety and Safeguards.

[FR Doc. 2020-28814 Filed 12-28-20; 8:45 am]

BILLING CODE 7590-01-P